DEPARTMENT OF HEALTH AND HUMAN SERVICES

Health Resources and Services Administration

Poison Control Program; Cooperative Agreement for the Development of Patient Management Guidelines for Poisonings

AGENCY: Health Resources and Services Administration, HHS.

ACTION: Notice of availability of funds.

SUMMARY: The Health Resources and Services Administration (HRSA) announces that up to $300,000 in fiscal year (FY) 2002 funds is available to fund one cooperative agreement for the development of guidelines for patient management following exposure to toxic substances. The award will be made under the authority of the Poison Control Center Enhancement and Awareness Act (Public Law 106-174). The purpose of this cooperative agreement is to develop evidence-based guidelines to assure greater consistency in the treatment of poisoning episodes both within and among different Poison Control Centers throughout the country. HRSA's Maternal and Child Health Bureau (MCHB) will administer the cooperative agreement (CFDA #93.253). Funding for the cooperative agreement in FY 2002 was appropriated under Public Law 107-116.

DATES: The deadline for receipt of applications is July 1, 2002. Applications will be considered on time if they are: (1) received on or before the deadline date or (2) postmarked by on or before the deadline date. The project award date is September 1, 2002.

ADDRESSES: To receive a complete application kit, applicants may telephone the HRSA Grants Application Center at 1-877-477-2123 beginning May 1, 2002, or register on-line at: http://www.hrsa.dhhs.gov/, or by accessing http://www.hrsa.gov/g_order3.htm directly. This program uses the standard Form PHS 5161-1 (rev. 7/00) for applications (approved under OMB No. 0920-0428). Applicants must use Catalog of Federal Domestic Assistance (CFDA) number 93.253 when requesting application materials. The CFDA is a Government wide compendium of enumerated Federal programs, projects, services, and activities that provide assistance. All applications should be mailed or delivered to: Grants Management Officer, MCHB; HRSA Grants Application Center, 901 Russell Avenue, Suite 450, Gaithersburg, MD 20879; telephone: 1-877-477-2123; e-mail: hrsagac@hrsa.gov.

This application guidance and the required forms for the cooperative agreement for the patient management guidelines may be downloaded in either WordPerfect 6.1 or Adobe Acrobat format (.pdf) from the MCHB home page at http://www.mchb.hrsa.gov/. Please contact Joni Johns, at 301/443-2088, or jjohns@hrsa.gov if you need technical assistance in accessing the MCHB home page via the Internet.

This announcement will appear in the Federal Register and on the HRSA home page at: http://www.hrsa.dhhs.gov/. Federal Register notices are found by following instructions at: http://www.access.gpo.gov/su_docs/aces/aces140.html.

FOR FURTHER INFORMATION CONTACT: Carol A. Delany, 301/443-0926, e-mail: cdelany@hrsa.gov (for questions specific to project activities of the program, program objectives); Theda Duvall, 301/443-1440, e-mail tduvall@hrsa.gov (for grants policy, budgetary, and business questions).

SUPPLEMENTARY INFORMATION: Patient Management Guidelines Cooperative Agreement Background and Objectives:

The Poison Control Center Enhancement and Awareness Act (Pub. L. 106-174) (the Act) was enacted in February 2000 to provide funding to stabilize and enhance Poison Control Centers. The Act also provided funding the establishment of a nationwide toll free number for greater access to Poison Control Centers in the United States, and for the development of standard patient management protocols for commonly encountered toxic exposures.

Each year, more than 2,000,000 poison exposures are reported to poison control centers (PCCs). More than 90 percent of these exposures occur in the home and more than half of the victims are children younger than 6 years of age. Persons seeking help with a poisoning exposure have access to PCCs staffed by toxicology professionals who, via a telephone hotline, give immediate information and treatment advice about suspected toxic exposures. About 70 percent of the exposure cases reported to PCCs are successfully managed at home without further need for treatment at a healthcare facility.

Currently, while there are patient management guidelines for individual centers, there are no uniform national guidelines to provide a framework for the advice given by toxicology professionals. Since there is no requirement for consistency among centers, the treatment of patients may differ from center to center. The implementation of a single national telephone number has increased the need for uniform guidelines and consistency in care and advice since the same poison exposure case may be handled by multiple Poison Control Centers.

In 2001, following input from an ad hoc group of national stakeholder organizations, the Maternal and Child Health Bureau (MCHB) began the process of developing uniform guidelines for the management of poisoned patients. A competitive contract was awarded to the American Association of Poison Control Centers (AAPCC) in collaboration with the American Academy of Clinical Toxicology and the American College of Medical Toxicology to develop an approach to guideline development, and apply it to the development of guidelines for the treatment of non-toxic exposures.

The approach developed by the AAPCC uses an evidence-based review of available medical literature and poisoning data. Guidelines are drafted and reviewed by a consensus panel comprised of qualified clinical toxicologists. A secondary review includes all Poison Control Center personnel and outside groups with interest in this area such as the American Academy of Pediatrics. The AAPCC tested this approach by using it to draft guidelines for handling exposures to nontoxic substances.

Authorization

Section 6(b)(2) of the Poison Control Center Enhancement and Awareness Act (Public Law 106-174).

Purpose

The purpose of this cooperative agreement is to use the AAPCC-developed approach to draft guidelines for the treatment of patients following exposures to individual or classes of related poisonous substances. MCHB will expect the awardee to propose toxic substances for guideline development, draft selected guidelines, and propose a plan for the distribution, utilization, feedback, and periodic review of the guidelines.

Eligibility

Any public or private entity is eligible to apply for the cooperative agreement. Under the President's initiative, faith-based organizations that are otherwise eligible and believe they can contribute to HRSA's program objectives are urged to consider this initiative.

Funding Level/Project Period

Approximately $300,000 is available to support the award of this cooperative agreement in FY 2002, with a project period of up to three years. Funding for this cooperative agreement beyond FY 2002 is contingent upon satisfactory performance, the availability of funds, and program priorities. The initial budget period is expected to be 12 months, with subsequent budget periods being 12 months.

Funding Mechanism

The administrative and funding instrument to be used for this project will be a cooperative agreement, in which substantial MCHB scientific and/or programmatic involvement with the awardee is anticipated during the performance of the project. Under the terms of this cooperative agreement, in addition to the required monitoring and technical assistance, Federal responsibilities will include:

(1) Provision of services of experienced Federal personnel as participants in the planning and development of all phases of this activity.

(2) Participation, as appropriate, in meetings conducted during the period of the cooperative agreement.

(3) Ongoing review and concurrence with activities and procedures to be established and implemented for accomplishing the scope of work.

(4) Participation in the preparation of project information prior to dissemination.

(5) Participation in the presentation of information on project activities.

(6) Assistance with the establishment of contacts with Federal and State agencies, MCHB grant projects, and other contacts that may be relevant to the project's mission; and referrals to these agencies.

Review Criteria

In general, applications for this grant program will be reviewed on the basis of the extent to which they address the following criteria:

1. Completeness and clarity of the project narrative;

2. Practicability and achievability of the plan to use requested funds;

3. Technical qualifications and capabilities of the organization and project personnel;

4. Strength of the project's plans for evaluation;

5. Clarity and appropriateness of the budget and coordinated budget narrative.

The final review criteria used to review and rank applications for this cooperative agreement are included in the application kit. Applicants should pay strict attention to addressing these criteria, as they are the basis upon which their applications will be judged.

Paperwork Reduction Act

OMB approval for any data collection in connection with this cooperative agreement will be sought, as required under the Paperwork Reduction Act of 1995.

Dated: April 18, 2002.
Elizabeth M. Duke,
Administrator.

[FR Doc. 02-10089 Filed 4-24-02; 8:45 am]

BILLING CODE 4165-15-P